DEPARTMENT OF COMMERCE

Patent and Trademark Office

Privacy Act of 1974; System of Records

AGENCY: United States Patent and Trademark Office, Commerce.

ACTION: Notice of amendment of Privacy Act system of records.

SUMMARY: In accordance with the requirements of the Privacy Act of 1974, as amended, the United States Patent and Trademark Office (USPTO) is amending the system of records listed under “COMMERCE/PAT-TM-5 Non-Registered Persons Rendering Assistance to Patent Applicants.” This action is being taken to update the Privacy Act notice. We invite the public to comment on the amendments noted in this publication.

DATES: Written comments must be received no later than December 16, 2005. The amendments will become effective as proposed on December 16, 2005, unless the USPTO receives comments that would result in a contrary determination.

ADDRESSES: You may submit written comments by any of the following methods:

• E-mail: Steve.Hanson@uspto.gov.

• Fax: (571) 273-4097, marked to the attention of Steve Hanson.

• Mail: Steve Hanson, Office of Enrollment and Discipline, United States Patent and Trademark Office, Mail Stop OED, P.O. Box 1450, Alexandria, VA 22313-1450.

All comments received will be available for public inspection at the USPTO Public Search Facility, Madison East Building—1st Floor, 600 Dulany Street, Alexandria, VA 22314.

FOR FURTHER INFORMATION CONTACT: Director, Office of Enrollment and Discipline, United States Patent and Trademark Office, Mail Stop OED, P.O. Box 1450, Alexandria, VA 22313-1450, (571) 272-4097.

SUPPLEMENTARY INFORMATION: The United States Patent and Trademark Office (USPTO) is giving notice of an amendment to a system of records that is subject to the Privacy Act of 1974. This system of records maintains information on persons other than registered attorneys or agents who have offered various services to inventors, patent applicants, and patentees. The Privacy Act notice is being updated with current address information for the system location and system manager. The authority for maintenance of the system and rule references for the notification procedure and contesting record procedures are being updated to correspond to the current statutes and rules for those items as related to the USPTO.

The Privacy Act system of records notice, “COMMERCE/PAT-TM-5 Non-Registered Persons Rendering Assistance to Patent Applicants,” was previously published at 65 FR 19868 (April 13, 2000). The amended system of records notice is published in its entirety below.

COMMERCE/PAT-TM-5

System name:

Non-Registered Persons Rendering Assistance to Patent Applicants.

Security classification:

Unclassified.

System location:

Office of Enrollment and Discipline, United States Patent and Trademark Office, 600 Dulany Street, Alexandria, VA 22314.

Categories of individuals covered by the system:

Persons other than registered attorneys or agents who have offered or rendered, for payment, various services to inventors, patent applicants, and patentees.

Categories of records in the system:

Declarations of assistance received and other reports or complaints, including names and addresses, of persons rendering services, and information obtained and used for investigatory and law enforcement purposes.

Authority for maintenance of the system:

35 U.S.C. 2.

Purpose(s):

To carry out the duties of the USPTO under 35 U.S.C. 2(b)(2)(D), in particular, the enrollment and recognition of individuals to practice as attorneys and agents before the USPTO in patent, trademark, and other non-patent matters; and to maintain complaints, reports, and other information on persons other than registered attorneys or agents who have offered services to inventors, patent applicants, and patentees.

Routine uses of records maintained in the system, including categories of users and the purposes of such uses:

Providing notice to patent applicants regarding whether or not the persons from whom assistance was received are registered to practice before the USPTO. Used for investigative purposes. Also, see Prefatory Statement of General Routine Uses Nos. 1-5, 8-10, and 13, as found at 46 FR 63501-63502 (December 31, 1981).

Disclosure to consumer reporting agencies:

Not applicable.

Policies and practices for storing, retrieving, accessing, retaining, and disposing of records in the system:

Storage:

Paper records in file folders, microfilm, and machine-readable storage media.

Retrievability:

Filed alphabetically by name.

Safeguards:

Records are located in lockable metal file cabinets or in metal file cabinets in secured rooms or secured premises with access limited to those whose official duties require access. Electronic files are stored in secured premises with access limited to those whose official duties require access.

Retention and disposal:

Records retention and disposal is in accordance with the unit's Record Control Schedule.

System manager(s) and address:

Director, Office of Enrollment and Discipline, United States Patent and Trademark Office, Mail Stop OED, P.O. Box 1450, Alexandria, VA 22313-1450.

Notification procedure:

Information may be obtained from the Director, Office of Enrollment and Discipline, United States Patent and Trademark Office, Mail Stop OED, P.O. Box 1450, Alexandria, VA 22313-1450. Requester should provide name, address, date of application, and record sought, pursuant to the inquiry provisions appearing in 37 CFR part 102 subpart B.

Record access procedures:

Requests from individuals should be addressed to the same address as stated in the notification section above.

Contesting record procedures:

The rules for access, for contesting contents, and for appealing initial determinations by the individual concerned appear in 37 CFR part 102 subpart B.

Record source categories:

Patent applicants who have received and paid for services by the individuals on whom the records are maintained.

Exemptions claimed for the system:

Pursuant to 5 U.S.C. 552a(k)(2), all investigatory materials in the record which meet the criteria in 5 U.S.C. 552a(k)(2) are exempted from the notice, access, and contest requirements (under 5 U.S.C. 552a(c)(3), (d), (e)(1), (e)(4)(G), (H), and (I), and (f)) of the agency regulations because of the necessity to exempt this information and material in order to accomplish the law enforcement function of the agency, to prevent subjects of investigations from frustrating the investigatory process, to prevent the disclosure of investigative techniques, to fulfill commitments made to protect the confidentiality of sources, to maintain access to sources of information, and to avoid endangering these sources and law enforcement personnel.

Dated: November 9, 2005.
Susan K. Brown,
Records Officer, USPTO, Office of the Chief Information Officer, Office of Data Architecture and Services, Data Administration Division.

[FR Doc. 05-22716 Filed 11-15-05; 8:45 am]

BILLING CODE 3510-16-P